DEPARTMENT OF ENERGY

Federal Energy Regulatory Commission

[Project No. 2145-060]

Public Utility District No. 1 of Chelan County, WA (Chelan PUD); Notice of Settlement Agreement, Soliciting Comments, and New Procedural Schedule

March 23, 2006.

Take notice that the following settlement agreement has been filed with the Commission and is available for public inspection.

a. Type of Application: Final Comprehensive Settlement Agreement.

b. Project No.: P-2145-060.

c. Date Filed: March 20, 2006.

d. Applicant: Public Utility District No. 1 of Chelan County, Washington (Chelan PUD).

e. Name of Project: Rocky Reach Hydroelectric Project (Project).

f. Location: On the mid-Columbia River, near the city of Wenatchee, in Chelan and Douglas Counties, Washington.

g. Filed Pursuant to: Rule 602 of the Commission's Rules of Practice and Procedure, 18 CFR 385.602.

h. Applicant Contact: Gregg Carrington, Director of Hydro Services, 327 N. Wenatchee Avenue, Wenatchee, WA 98801, (509) 661-4178, gregg@chelanpud.org.

i. FERC Contact: Kim A. Nguyen, (202) 502-6105, kim.nguyen@ferc.gov.

j. The deadline for filing comments on the Settlement Agreement is 20 days from the date of this notice, or April 12, 2006. The deadline for filing reply comments is 30 days from the date of this notice, or April 24, 2006.

All documents (original and eight copies) should be filed with: Magalie R. Salas, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Comments may be filed electronically via the Internet in lieu of paper. The Commission strongly encourages electronic filings. See 18 CFR 385.2001(a)(1)(iii) and the instructions on the Commission's Web site (http://www.ferc.gov) under the “e-Filing” link.

k. Chelan PUD filed the settlement agreement on behalf of themselves and the U.S. Fish and Wildlife Service, the Washington Department of Ecology, the U.S. National Park Service, the U.S. Bureau of Land Management, the Washington Department of Fish and Wildlife, the Washington State Parks and Recreation Commission, the City of Entiat, the Entiat Coalition, and Alcoa Power Generating, Inc. The purpose of the settlement agreement is to resolve among the signatories issues regarding the relicensing of the Rocky Reach Hydroelectric Project. The signatories have agreed that the settlement agreement is fair and reasonable and in the public interest. On behalf of the signatories, Chelan PUD requests that the Commission approve the settlement agreement and adopt it as part of a new license without material modification.

l. A copy of the settlement agreement is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY (202) 502-8659. A copy is also available for inspection and reproduction at the address in item h above.

You may also register online at http://www.ferc.gov/docs-filing/esubscription.asp to be notified via e-mail of new filings and issuances related to this or other pending projects. For assistance, contact FERC Online Support.

m. We are modifying our processing schedule for the relicensing of the Project. The schedule given in our Notice on January 30, 2006 is replaced with the following schedule:

Target Date: Issue Final Environmental Impact Statement July, 2006; Ready for Commission Action October, 2006.

Magalie R. Salas,
Secretary.

[FR Doc. E6-4593 Filed 3-29-06; 8:45 am]

BILLING CODE 6717-01-P